DEPARTMENT OF ENERGY

Federal Energy Regulatory Commission

[Docket Nos. CP20-484-000; CP20-485-000]

ANR Pipeline Company; Great Lakes Transmission Limited Partnership; Notice of Schedule for Environmental Review of the Alberta Xpress and Lease Capacity Abandonment Projects

On June 22, 2020, ANR Pipeline Company (ANR) and Great Lakes Gas Transmission Limited Partnership (Great Lakes), filed applications in Docket Nos. CP20-484-000 and CP20-485-000, respectively, requesting a Certificate of Public Convenience and Necessity and authorization pursuant to Section 7(c) and 7(b) of the Natural Gas Act. ANR seeks to construct and operate certain natural gas pipeline facilities in Evangeline Parish, Louisiana, and Great Lakes seeks authorization to abandon firm capacity by lease to ANR. The proposed projects are known as the Alberta Xpress Project and Lease Capacity Abandonment Project (Projects) and would provide 165,000 dekatherms per day of incremental firm transportation capacity on ANR's pipeline system to connect growing Gulf Coast LNG markets with Western Canadian Sedimentary Basin production.

On July 1, 2020, the Federal Energy Regulatory Commission (Commission or FERC) issued its Notices of Applications for the Projects. Among other things, those notices alerted agencies issuing federal authorizations of the requirement to complete all necessary reviews and to reach a final decision on a request for a federal authorization within 90 days of the date of issuance of the Commission staff's Environmental Assessment (EA) for the Projects. This instant notice identifies the FERC staff's planned schedule for the completion of the EA for the Projects.

Schedule for Environmental Review

Issuance of EA—December 4, 2020

90-day Federal Authorization Decision Deadline—March 4, 2021

If a schedule change becomes necessary, additional notice will be provided so that the relevant agencies are kept informed of the Projects' progress.

Project Description

CP20-484-000

ANR proposes to construct and operate one new 15,900 horsepower compressor station (designated as the Turkey Creek Compressor Station) and appurtenant facilities in Evangeline Parish, Louisiana, and acquire a lease between ANR and Great Lakes.

CP20-485-000

Great Lakes proposes to abandon firm capacity by a lease agreement with ANR. No new construction is proposed as part of the Lease Capacity Abandonment Project; however, this is related to the application filed by ANR to construct and operate the Alberta Xpress Project.

Background

On July 20, 2020, the Commission issued a Notice of Intent to Prepare an Environmental Assessment for the Proposed Alberta Xpress and Lease Capacity Abandonment Projects and Request for Comments on Environmental Issues (NOI). The NOI was sent to affected landowners; federal, state, and local government agencies; elected officials; environmental and public interest groups; Native American tribes; other interested parties; and local libraries and newspapers. In response to the NOI, the Commission received environmental comments from the Louisiana Department of Wildlife and Fisheries (LDWF). The LDWF provided recommendations on erosion control measures and stated that based on its initial review of ANR's application, no impacts on rare, threatened, or endangered species or critical habitats are anticipated for the proposed Alberta Xpress Project. All substantive comments will be addressed in the EA.

Additional Information

In order to receive notification of the issuance of the EA and to keep track of all formal issuances and submittals in specific dockets, the Commission offers a free service called eSubscription. This can reduce the amount of time you spend researching proceedings by automatically providing you with notification of these filings, document summaries, and direct links to the documents. Go to https://www.ferc.gov/ferc-online/overview to register for eSubscription.

Additional information about the Project is available from the Commission's

Office of External Affairs at (866) 208-FERC or on the FERC website (www.ferc.gov). Using the “eLibrary” link, select “General Search” from the eLibrary menu, enter the selected date range and “Docket Number” excluding the last three digits (i.e., CP20-484 and CP20-485), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: August 20, 2020.
Kimberly D. Bose,
Secretary.

[FR Doc. 2020-18732 Filed 8-25-20; 8:45 am]

BILLING CODE 6717-01-P